DEPARTMENT OF COMMERCE

National Oceanic and Atmospheric Administration

RIN 0648-XB82

North Pacific Fishery Management Council; Notice of Public Meeting

AGENCY: National Marine Fisheries Service (NMFS), National Oceanic and Atmospheric Administration (NOAA), Commerce.

ACTION: Meetings of the North Pacific Fishery Management Council Aleutian Island Ecosystem Team.

SUMMARY: The North Pacific Fishery Management Council (Council) Ecosystem Committee will meet at the Auke Bay Laboratory Lena Point facility, in Juneau, AK, from 1 p.m. to 5 p.m. on Wednesday, August 22, 2007

DATES: The North Pacific Fishery Management Council (Council) Ecosystem Committee will meet on August 22, 2007.

ADDRESSES: NMFS Auke Bay Laboratory, Ted Stevens Marine Research Institute, 17109 Pt. Lena Loop Road, Juneau, AK 99801.

Council address: North Pacific Fishery Management Council, 605 W. 4th Ave., Suite 306, Anchorage, AK 99501-2252.

FOR FURTHER INFORMATION CONTACT: Diana Evans, Council staff, Phone: 907-271-2809.

SUPPLEMENTARY INFORMATION: The agenda is to discuss the AI Fishery Ecosystem Plan (review summary pamphlet, discuss approaches to identifying desirable/ undesirable states of ecosystem), give feedback on the proposed approach to developing an Arctic Fishery Management Plan, and receive updates on the Alaska Marine Ecosystem Forum meeting and NOAA's integrated ecosystem assessment plans.

These meetings are physically accessible to people with disabilities. Requests for sign language interpretation or other auxiliary aids should be directed to Gail Bendixen at 907-271-2809 at least 7 working days prior to the meeting date.

Dated: August 1, 2007.
Tracey L. Thompson,
Acting Director, Office of Sustainable Fisheries, National Marine Fisheries Service.

[FR Doc. E7-15187 Filed 8-3-07; 8:45 am]

BILLING CODE 3510-22-P

>